NUCLEAR REGULATORY COMMISSION

[Docket No. 72-16]

Notice of Issuance of Amendment to Materials License SNM-2507, Virginia Electric and Power Co., North Anna Independent Spent Fuel Storage Installation

The U.S. Nuclear Regulatory Commission (NRC or the Commission) has issued Amendment 2 to Materials License SNM-2507 held by Virginia Electric and Power Company (Dominion) for the receipt, possession, transfer, and storage of spent fuel at the North Anna Independent Spent Fuel Storage Installation (ISFSI), located in Louisa County, Virginia. The amendment is effective as of the date of issuance.

By application dated May 28, 2002, as supplemented on January 23, April 4, and May 21, 2003, Dominion requested to amend its ISFSI license to permit the storage of higher initial enrichment and burnup fuels in the TN-32 dry storage cask used at North Anna. This amendment complies with the standards and requirements of the Atomic Energy Act of 1954, as amended (the Act), and the Commission's rules and regulations. The Commission has made appropriate findings as required by the Act and the Commission's rules and regulations in 10 CFR chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Also in connection with this action, the Commission prepared an Environmental Assessment (EA) and Finding of No Significant Impact (FONSI). The EA and FONSI were published in the Federal Register on June 11, 2003 (68 FR 35013).

The NRC maintains an Agencywide Documents Access and Management System (ADAMS), which provides text and image files of NRC's public documents. These documents may be accessed through the NRC's Public Electronic Reading Room on the Internet at http://www.nrc.gov/reading-rm/adams.html. If you do not have access to ADAMS, or if there are problems in accessing the documents located in ADAMS, contact the NRC Public Document Room Reference staff at 1-800-397-4209, 301-415-4737, or by e-mail to pdr@nrc.gov.

Dated at Rockville, Maryland, this 30 day of June, 2003.
For the Nuclear Regulatory Commission.
Mary Jane Ross-Lee,
Senior Project Manager, Licensing Section, Spent Fuel Project Office, Office of Nuclear Material Safety and Safeguards.

[FR Doc. 03-17333 Filed 7-8-03; 8:45 am]

BILLING CODE 7590-01-P